FEDERAL RESERVE SYSTEM

[Docket No. OP-1511]

Privacy Act of 1974; Notice of Amended System of Records

AGENCY: Board of Governors of the Federal Reserve System.

ACTION: Notice of Amended System of Records.

SUMMARY: Pursuant to the provisions of the Privacy Act of 1974, 5 U.S.C. 552a, notice is given that the Board of Governors of the Federal Reserve System (Board) is modifying BGFRS-39 (General File of the Community Advisory Council), to correct the legal authority cited for maintenance of the system and to clarify the types of records that are maintained about a member's service on the Community Advisory Council (CAC).

DATES: In accordance with 5 U.S.C. 552a(e)(4) and (11), the public is given a 30-day period in which to comment; and the Office of Management and Budget (OMB), which has oversight responsibility under the Privacy Act, requires a 40-day period in which to conclude its review of the system. Therefore, please submit any comments on or before April 25, 2016. The amended system of records will become effective May 3, 2016, without further notice, unless comments dictate otherwise.

ADDRESSES: The public, OMB, and Congress are invited to submit comments, identified by the docket number above, by any of the following methods:

• Agency Web site: http://www.federalreserve.gov. Follow the instructions for submitting comments. http://www.federalreserve.gov/generalinfo/foia/ProposedRegs.cfm.

• Federal eRulemaking Portal: http://www.regulations.gov. Follow the instructions for submitting comments.

• Email: regs.comments@federalreserve.gov. Include docket number in the subject line of the message.

• Fax: 202/452-3819 or 202/452-3102.

• Mail: Robert deV. Frierson, Secretary, Board of Governors of the Federal Reserve System, 20th Street and Constitution Avenue NW., Washington, DC 20551.

All public comments will be made available on the Board's Web site at www.federalreserve.gov/generalinfo/foia/ProposedRegs.cfm as submitted, unless modified for technical reasons. Accordingly, comments will not be edited to remove any identifying or contact information. Public comments may also be viewed electronically or in paper form in Room 3515, 1801 K Street (between 18th and 19th Streets NW.) Washington, DC 20006.

FOR FURTHER INFORMATION CONTACT: Alye S. Foster, Senior Special Counsel, Legal Division, Board of Governors of the Federal Reserve System, 20th Street and Constitution Avenue NW., Washington, DC 20551, or (202) 452-5289, or alye.s.foster@frb.gov. Telecommunications Device for the Deaf (TDD) users may contact (202) 263-4869.

SUPPLEMENTARY INFORMATION: In accordance with the Privacy Act of 1974, 5 U.S.C. 552a, the Board proposes to modify BGFRS-39 (General File of the Community Advisory Council) to correct the legal authority cited for maintenance of the system and to clarify the types of records that are maintained about the member's service on the Community Advisory Council (CAC). The CAC meets semi-annually with the Board to offer diverse perspectives on the economic circumstances and financial services needs of consumers and communities, with a particular focus on the concerns of low- and moderate-income populations. The Board's system of records, BGFRS-39, maintains records relating to the appointment and selection of individuals to the CAC and, for selectees, records relating to the individual's membership on the CAC. In accordance with 5 U.S.C. 552a(r), a report of this system of records is being filed with the Chair of the House Committee on Oversight and Government Reform, the Chair of the Senate Committee on Homeland Security and Governmental Affairs, and the Administrator of the Office of Information and Regulatory Affairs of the Office of Management and Budget.

Dated: March 21, 2016.
Robert deV. Frierson,
Secretary of the Board.

SYSTEM OF RECORDS

BGFRS-39

SYSTEM NAME:

FRB—General File of the Community Advisory Council

SYSTEM LOCATION:

Board of Governors of the Federal Reserve System, 20th Street and Constitution Avenue NW., Washington, DC 20551.

CATEGORIES OF INDIVIDUALS COVERED BY THE SYSTEM:

This system maintains information on individuals considered for membership on the CAC and individuals selected to serve on the CAC.

CATEGORIES OF RECORDS IN THE SYSTEM:

Records in the system include identifying information about candidates and members of the CAC relating to the selection and appointment to the CAC and records relating to service on the CAC. Individual information in the system includes, but is not limited to, name, work address, telephone number, email address, organization, and title. The system stores additional information including, but not limited to, the candidate's or CAC member's education, work experience, qualifications, and service on the CAC (such as travel and contact information).

AUTHORITY FOR MAINTENANCE OF THE SYSTEM:

12 U.S.C. 225a and 244.

PURPOSE(S):

The system of records aids the Board in its operation and management of the CAC, including the selection, appointment, and service of members of the CAC.

ROUTINE USES OF RECORDS MAINTAINED IN THE SYSTEM, INCLUDNIG CATEGORIES OF USERS AND THE PURPOSES OF SUCH USES:

General routine uses A, B, C, D, E, F, G, I apply to this system. Records are routinely used in the Board's operation and management of the CAC, including in the selection, appointment, and service of members of the CAC.

POLICIES AND PRACTICES FOR STORING, RETRIEVING, ACCESSING, RETAINING, AND DISPOSING OF RECORDS IN THE SYSTEM:

Storage: Records in this system are stored securely in paper and stored on a secure server as electronic records.

Retrievability: Records may be retrieved by any one or a combination of choices by authorized users to include name, zip code, and state.

Access Controls: Access to records is limited to those whose official duties require it. Paper records are secured by lock and key and access to electronic records is password controlled. The electronic storage system has the ability to track individual actions within the application. The audit and accountability controls are based on Board standards which, in turn, are based on applicable laws and regulations. The controls assist in detecting security violations and performance or other issues within the electronic storage system.

Access is restricted to authorized employees who require access for official business purposes. Board users are classified into different roles and common access and usage rights are established for each role. User roles are used to delineate between the different types of access requirements such that users are restricted to data that is required in the performance of their duties. Periodic audits and reviews are conducted to determine whether authenticated users still require access and whether there have been any unauthorized changes in any information maintained.

Retention and Disposal: The retention for these records is currently under review. Until review is completed, these records will not be destroyed.

SYSTEM MANAGER(S) AND ADDRESS:

Director, Division of Consumer and Community Affairs, Board of Governors of the Federal Reserve System, 20th St. and Constitution Ave. NW., Washington, DC 20551.

NOTIFICATION PROCEDURE:

An individual desiring to learn of the existence of, or to gain access to, his or her record in this system of records shall submit a request in writing to the Secretary of the Board, Board of Governors of the Federal Reserve System, 20th Street and Constitution Avenue NW., Washington, DC 20551. The request should contain: (1) A statement that the request is made pursuant to the Privacy Act of 1974, (2) the name of the system of records (i.e., BGFRS-39, General File of the Community Advisory Council), (3) information necessary to verify the identity of the requester (e.g., two forms of identification, including one photo identification, or a notarized statement attesting to the requester's identity), and (4) any other information that may assist in the identification of the record for which access is being requested.

RECORD ACCESS PROCEDURES:

See “Notification Procedure,” above.

CONTESTING RECORD PROCEDURES:

Same as “Notification procedures,” above except that the envelope should be clearly marked “Privacy Act Amendment Request.” The request for amendment of a record should: (1) Identify the system of records containing the record for which amendment is requested, (2) specify the portion of that record requested to be amended, and (3) describe the nature of and reasons for each requested amendment.

RECORD SOURCE CATEGORIES:

Information is provided by the individual to whom the record pertains.

EXEMPTIONS CLAIMED FOR THE SYSTEM:

None.

[FR Doc. 2016-06655 Filed 3-23-16; 8:45 am]

BILLING CODE P